MILLENNIUM CHALLENGE CORPORATION

[MCC FR 12-07]

Notice of Sunshine Act Meeting

AGENCY: Millennium Challenge Corporation.

ACTION: Notice of the June 21, 2012, Millennium Challenge Corporation Board of Directors Meeting.

Time and Date: 3:00 p.m. to 5:00 p.m., Wednesday, June 21, 2012.

Place: Department of State, 2201 C Street NW., Washington, DC 20520.

FOR FURTHER INFORMATION CONTACT: Information on the meeting may be obtained from Melvin F. Williams, Jr., Vice President, General Counsel and Corporate Secretary via email at corporatesecretary@mcc.gov or by telephone at (202) 521-3600.

Status: Meeting will be closed to the public.

Matters to be Considered: The Board of Directors (the “Board”) of the Millennium Challenge Corporation (“MCC”) will hold a meeting to discuss updates on Malawi and Mali, highlights of completed compacts, and an audit committee report. The agenda items are expected to involve the consideration of classified information and the meeting will be closed to the public.

Dated: June 5, 2012.
Melvin F. Williams, Jr.,
VP/General Counsel and Corporate Secretary, Millennium Challenge Corporation.

[FR Doc. 2012-14025 Filed 6-6-12; 11:15 am]

BILLING CODE 9211-03-P